NUCLEAR REGULATORY COMMISSION

[Docket No. 50-146]

Saxton Nuclear Experimental Corporation and GPU Nuclear, Inc. Saxton Nuclear Experimental Facility; Notice of Issuance of Environmental Assessment and Finding of No Significant Impact

The U.S. Nuclear Regulatory Commission (NRC) is considering issuance of an amendment for Amended Facility License No. DPR-4, issued to the Saxton Nuclear Experimental Corporation (SNEC) and GPU Nuclear, Inc. (the licensees), for the Saxton Nuclear Experimental Facility. The proposed action would approve the SNEC Facility License Termination Plan (LTP).

Description of Proposed Action

The proposed action is NRC approval of the SNEC's LTP, which contains the radiation release criteria [i.e., derived concentration guideline levels (DCGLs)], and the description of the final status survey plan required by the NRC. NRC review and approval of the LTP will verify that the remainder of the decommissioning activities will be performed in accordance with NRC regulations.

The SNEC Facility is a deactivated pressurized-water nuclear reactor located on about 5,300 square meters (1.148 acres) less than a mile north of the Borough of Saxton in Liberty Township, Bedford County, Pennsylvania. The reactor was licensed to operate at 23.5 megawatt thermal (MWT).

The SNEC Facility was built from 1960 to 1962 and operated from 1962 to 1972. The Facility was placed in a SAFSTOR-equivalent status after its shutdown in 1972 when all the nuclear fuel was removed from the reactor and returned to the owner of the fuel, the Atomic Energy Commission. The control rod blades and superheated steam test loop were also shipped offsite. Following fuel removal, some equipment, tanks, and piping located outside of the reactor containment vessel (CV) were removed. From 1972 to 1974, the buildings and structures that supported reactor operations were partially decontaminated.

Radiological decontamination of reactor support structures and buildings was performed between 1987-1989 in preparation for demolition of these structures. This work included decontamination of the Control and Auxiliary Building, the Radioactive Waste Disposal Facility, the Yard Pipe Tunnel, and the Filled Drum Storage Bunker, and removal of the Refueling Water Storage Tank. After the NRC accepted the final release radiological survey for this work, these structures were demolished in 1992.

In April of 1998, the NRC approved the final stage of decommissioning. In 1998, the large component structures: pressurizer, steam generator, and reactor vessel were removed and shipped to the Chem-Nuclear low-level waste disposal facility in Barnwell, South Carolina. The only remaining structure of the original facility is the CV. The Saxton Steam Generating Station basement and adjoining Intake/Discharge Tunnels and associated underground discharge piping have also been involved in decommissioning activities. This decommissioning is in preparation for release of the site for unrestricted use.

The licensees are proposing to decontaminate the site to meet the unrestricted release criteria [0.25 Sieverts per year (Sv/yr) (25 milliroentgen-equivalent-man per year (25 mrem/yr)) and residual radioactivity as low as reasonably achievable] per 10 CFR 20.1402.

Summary of the Environmental Assessment

The NRC staff reviewed the licensees' application which included a Decommissioning Environmental Report. To document its review, the NRC staff has prepared an environmental assessment (EA) which discusses the SNEC Facility background; site description; current environmental conditions including land use, geology, water resources (surface water and groundwater) and waste management; examines the no action alternative to the proposed action; and presents the environmental impact of the proposed action including radiological, non-radiological and cumulative environmental impacts. The radiological and non-radiological impacts of the proposed action are reproduced from the EA below.

Radiological Impacts

At the time of license termination, the only source of exposure to members of the public would be any residual radioactivity within remaining buildings or within the site soils.

The derived concentration guideline levels (DCGLs) are concentration limits on the residual radioactivity that can be left in buildings and in soils, and still be in compliance with the dose limit of 0.25 Sv/yr (25 mrem/yr) as specified in 10 CFR part 20, subpart E. The manner in which the DCGLs are derived for the SNEC is documented in the LTP.

NRC would evaluate the adequacy of the DCGLs in providing protection for members of the public as the site is released for unrestricted use based on the approved LTP. The LTP would be bounded by the dose limit of 0.25 Sv/yr (25 mrem/yr) as specified in 10 CFR part 20, subpart E.

In deriving the soil DCGLs, a resident-farmer would be considered as the average member of the critical population group. The hypothetical resident farmer is assumed to build a house, draw water from a well, grow plant food and fodder, raise livestock, and catch fish from a pond all within or affected by residual radioactivity in the soil. The resident farmer scenario is considered to embody the greatest number of exposure pathways of any scenario envisioned.

The DCGLs for buildings assumes a light industrial worker as the average member of the critical group. The worker is assumed to be exposed to residual radioactivity remaining on the walls and floor of a remaining structure at the site as he goes about light industrial activities.

NRC would evaluate the appropriateness of the exposure scenarios postulated and the methodology used for deriving the DCGLs. NRC would only approve the LTP if the evaluation concluded that the potential radiation exposures caused by residual radionuclide concentrations have not been underestimated by the licensees and are protective of the general public.

The licensees would use a series of surveys and a final status survey to demonstrate compliance with 10 CFR part 20, subpart E, consistent with the Radiation Survey and Site Investigation process and the Data Quality Objectives (DQO) process. Planning for the final status survey involves an iterative process that requires appropriate site classification (on the basis of the potential residual radionuclide concentration levels relative to the DCGLs) and formal planning using the DQO process. The licensees have committed to an integrated design that would address the selection of appropriate survey and laboratory instrumentation and procedures, and that includes a statistically based measurement and sampling plan for collecting and evaluating the data needed for the final status survey. The staff has determined that the sampling strategy and survey data evaluation methodology presented in the LTP are adequate.

Based on the discussion above, there are no significant radiological environmental impacts associated with the proposed action.

Non-Radiological Impacts

The scope of the EA is limited to the adequacy of the DCGLs and the adequacy of the final status survey described in the LTP. The purposed action does not involve any historic sites. Therefore, there are no significant non-radiological impacts on the environmental resources.

Finding of No Significant Impact

On the basis of the EA, NRC concludes that the approval of the LTP will not cause any significant impacts on the human environment and is protective of human health. Accordingly, the NRC has determined not to prepare an environmental impact statement for the proposed action.

For further details with respect to the proposed action, see the licensees' letter dated February 2, 2000, as supplemented on June 23, August 11, September 18 and December 4, 2000, January 30, February 14, March 15 and 19, June 20, July 2 and September 4, 2001, and January 11 and 24, February 4, May 22 and 28, July 11, August 20, September 17, 23, 24, and 26, October 10, and December 16, 2002. Documents may be examined, and/or copied for a fee, at the NRC's Public Document Room (PDR), located at One White Flint North, 11555 Rockville Pike (first floor), Rockville, Maryland. Publicly available records will be accessible electronically from the Agencywide Documents Access and Management System (ADAMS) Public Electronic Reading Room on the Internet at the NRC Web site, http://www.nrc.gov/reading-rm/adams.html. The EA can be found in ADAMS under accession number ML030350564. Persons who do not have access to ADAMS or who encounter problems in accessing the documents located in ADAMS should contact the NRC PDR Reference staff by telephone at 1-800-397-4209 or 301-415-4737, or by e-mail to pdr@nrc.gov. Single copies of the EA may be obtained from Alexander Adams, Jr., Senior Project Manager, Office of Nuclear Reactor Regulation, U.S. Nuclear Regulatory Commission, M.S. O-12-G-13, Washington, DC 20555.

Dated at Rockville, Maryland, this 13th day of March, 2003.
For the Nuclear Regulatory Commission.
Patrick M. Madden,
Chief, Research and Test Reactors Section, Operating Reactor Improvements Program, Division of Regulatory Improvement Programs, Office of Nuclear Reactor Regulation.

[FR Doc. 03-6731 Filed 3-19-03; 8:45 am]

BILLING CODE 7590-01-P